DEPARTMENT OF ENERGY

Federal Energy Regulatory Commission

[Docket No. GT00-26-000]

Transcontinental Gas Pipe Line Corporation; Notice of Proposed Changes in FERC Gas Tariff

May 2, 2000.

Take notice that on April 21, 2000, Transcontinental Gas Pipe Line Corporation (Transco) tendered for filing as part of its FERC Gas Tariff, Third Revised Volume No. 1, the tariff sheets listed on Appendix A to the filing, with an effective date of April 1, 2000.

Transco states that the purpose of the filing is to update certain Delivery Point Entitlement (DPE) tariff sheets in accordance with the provisions of Section 19 of the General Terms and Conditions of Transco's Third Revised Volume No. 1. Transco states that the tariff sheets have been revised to include changes as a result of the termination of the Rate Schedule FT service agreement with Prior Energy Corporation and the associated open season. Transco states that also included in the filing are tariff sheets which update the Index of Daily Facility Group and Delivery Point Entitlements and Related Maps.

Transco states that copies of the filing are being mailed to each of its affected customers and interested state commissions.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-11352 Filed 5-5-00; 8:45 am]

BILLING CODE 6717-01-M